FEDERAL COMMUNICATIONS COMMISSION

47 CFR Part 101

[WT Docket No. 97-81; FCC 01-171]

Multiple Address Systems

AGENCY: Federal Communications Commission.

ACTION: Final rule; petition for reconsideration; clarification.

SUMMARY: The document addresses four petitions for reconsideration and/or clarification of the MAS Report and Order. Specifically, the Commission responds to requests for reconsideration and/or clarification of issues relating to the types of services classified as private internal, shared use and private carrier service in the private internal bands, grandfathering provisions as they relate to transfers and assignments, service area coverage of the Gulf of Mexico, operational flexibility, and other minor points that help clarify its intentions for the MAS service. In addition, the Commission makes minor changes to certain technical requirements in part 101, as well as, the current application freeze in the 928/959 megahertz (MHz) MAS bands. In this document, the Commission grants two petitions and grants a third petition, in part. The fourth petition is dismissed as moot.

DATES: Effective September 4, 2001.

FOR FURTHER INFORMATION CONTACT: Shellie Blakeney at (202) 418-0680, Public Safety and Private Wireless Division, Wireless Telecommunications Bureau.

SUPPLEMENTARY INFORMATION: 1. This document is a summary of the Commission's Memorandum Opinion and Order, FCC 01-171 in WT Docket No. 97-81, adopted on May 22, 2001, and released on May 29, 2001. The full text of this Memorandum Opinion and Order is available for inspection and copying during normal business hours in the FCC Reference Center, Room CY-A257, 445 12th Street, S.W., Washington, D.C. The complete text may be purchased from the Commission's copy contractor, International Transcription Service, Inc., 1231 20th Street, N.W., Washington, D.C. 20037. The full text may also be downloaded at: www.fcc.gov. Alternative formats are available to persons with disabilities by contacting Jenifer Simpson at (202) 418-0008 or TTY (202) 418-2555.

Summary of the Memorandum Opinion and Order

2. The Memorandum Opinion and Order responds to four petitions for reconsideration and/or clarification of certain decisions in the MAS Report and Order, 65 FR 17445 (April 3, 2000). MAS consists of 3.2 MHz of electromagnetic spectrum in the 900 MHz band and is licensed under part 101 of the Commission's rules. The Memorandum Opinion and Order: (1) Will enable the MAS service to effectively accommodate the wireless communications needs of its various users. Overall, the decisions contained in the MAS Memorandum Opinion and Order will not only enable the Commission to better serve current and future MAS licensees, but will help conserve scarce Commission resources, thereby, advancing the Commission's spectrum management goals, including fostering efficient and effective radio operations.

3. Specifically, the Commission concludes that the type of service provided by Radscan, Inc. on MAS frequencies is a private internal use in the context of MAS. This clarification better explains the Commission's position with respect to the intended users of the private internal MAS bands and enhances the ability of current and future MAS licensees to acquire MAS spectrum. In addition, the Commission reinstates non-profit, cost-shared use in the private internal bands. The Commission believes that this type of spectrum use serves the public interest and affords a vital alternative for securing MAS spectrum in the highly encumbered private internal bands. Moreover, the Commission creates an EA-like area covering the Gulf of Mexico which will ensure that the wireless needs of this region are better met. With regard to the MAS operational policies, the Commission modifies some of the policies that were relaxed in the MAS Report and Order, 65 FR 17445 (April 3, 2000), and introduces policies that may be described as less flexible. However, the Commission believes that the changes to the operational policies mitigate potential instances of interference among MAS users and will ultimately benefit all MAS users.

Supplemental Final Regulatory Flexibility Analysis

4. As required by the Regulatory Flexibility Act (RFA), Initial Regulatory Flexibility Analyses (IRFA) were incorporated in the Amendment of the Commission's Rules Regarding Multiple Address Systems, Notice of Proposed Rule Making, 62 FR 11407 (March 12, 1997) and Further Notice of Proposed Rule Making, 64 FR 38617 (July 19, 1999). The Commission sought written public comment on the proposals in the Notice and Further Notice, 62 FR 11407 (March 12, 1997) and 64 FR 38617 (July 19, 1999) including comment on the IRFA. This present Supplemental Final Regulatory Flexibility Analysis (Supplemental FRFA) conforms to the RFA.

I. Reason for, and Objectives of, the Memorandum Opinion and Order

5. These proceedings were initiated to secure public comment on proposals to maximize the efficient and effective use of spectrum allocated to MAS in the Microwave Services and to analyze the impact of the Balanced Budget Act on these proposals. The rules adopted in this Memorandum Opinion and Order continue the Commission's efforts to promote effective radio operations, improve the efficiency of spectrum use and reduce the regulatory burden on spectrum users.

II. Summary of Significant Issues Raised by Public Comments in Response to the Previous Final Regulatory Flexibility Analysis

6. No reconsideration petitions/comments were filed in direct response to the previous Final Regulatory Flexibility Analysis (FRFA). However, the Commission has reviewed general comments that may impact small businesses. In this instance, the petitioners are existing MAS licensees, many of whom qualify as small businesses. Generally, the petitioners applaud the Commission's efforts in this service. The requests for reconsideration and/or clarification involve issues relating to the types of services classified as private internal, grandfathering provisions as they relate to transfers and assignments, shared use and private carrier service in the private internal bands, operational flexibility, service area coverage of the Gulf of Mexico and other minor points that will help clarify the Commission's intentions for this service. In addition, this Memorandum Opinion and Order makes minor changes to certain technical requirements in part 101, as well as, the current application freeze in certain MAS bands in an effort to promote effective radio operations and to reduce regulatory burdens on MAS licensees.

III. Description and Estimate of the Number of Small Entities To Which the Rules Will Apply

7. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act, unless the Commission has developed one or more definitions that are appropriate for its activities. Under the Small Business Act, a “small business concern” is one that: (1) Is independently owned and operated; (2) is not dominant in its field of operation; and (3) satisfies any additional criteria established by the Small Business Administration (SBA). A small organization is generally “any not-for-profit enterprise which is independently owned and operated and is not dominant in its field.”

8. Last, the definition of “small governmental entity” is one with populations of fewer than 50,000. There are 85,006 governmental entities in the nation. This number includes such entities as states, counties, cities, utility districts and school districts. There are no figures available on what portion of this number has populations of fewer than 50,000. However, this number includes 38,978 counties, cities and towns, and of those, 37,556, or ninety-six percent, have populations of fewer than 50,000. The Census Bureau estimates that this ratio is approximately accurate for all government entities. Thus, of the 85,006 governmental entities, the Commission estimates that ninety-six percent, or about 81,600, are small entities that may be affected by the rules. The Commission describes and estimates the number of small business licensees and regulatees that may be affected by the rules.

9. The rules adopted in this Memorandum Opinion and Order affect a number of small entities that are either licensees, or may choose to become applicants for licenses, in the MAS Service. Such entities, in general, fall into two categories: (1) Those using MAS spectrum for profit-based uses and (2) those using MAS spectrum for private internal uses.

10. With respect to the first category, the Commission has developed and received approval from the Small Business Administration for two definitions of small entities applicable to MAS licensees that do not provide private internal service. The majority of these entities will most likely be licensed in bands where the Commission has implemented a geographic area licensing approach that would require the use of competitive bidding procedures to resolve mutually exclusive applications. The Commission's licensing database indicates that, as of January 20, 1999, there were a total of 8,670 MAS station authorizations. Of these, 260 authorizations were associated with common carrier service.

11. With respect to the second category, which consists of entities that use, or seek to use, MAS spectrum to accommodate their own internal communications needs, the Commission notes that MAS serves an essential role in a range of industrial, safety, business, and land transportation activities. MAS radios are used by companies of all sizes, operating in virtually all U.S. business categories, and by all types of public safety entities. For the majority of private internal users, the definitions developed by the SBA would be more appropriate. The applicable definition of small entity in this instance appears to be the definition under the SBA rules applicable to establishments engaged in radiotelephone communications. This definition provides that a small entity is any entity employing no more than 1,500 persons. The Commission's licensing database indicates that, as of January 20, 1999, of the 8,670 total MAS station authorizations, 8,410 authorizations were for private radio service, and of these, 1,433 were for private land mobile radio service.

IV. Description of Projected Reporting, Recordkeeping, and Other Compliance Requirements

12.This Memorandum Opinion and Order requires MAS licensees that are operating in the MAS spectrum designated for private internal use to limit mobile operations to mobile master stations only, for the 952 MHz and certain channels in the 941 MHz bands, if frequencies in the 956 MHz band are unavailable. In addition, the Memorandum Opinion and Order prohibits mobile operation for site-based licensees in the 959 MHz band and modifies permissible frequency tolerance levels for MAS operations to conform with the MAS Report and Order, 65 FR 17445 (April 3, 2000). Compliance with these modifications to the Commission's rules, as well as the other modifications described in the MAS Memorandum Opinion and Order, will facilitate efficient radio operations by reducing opportunities for radio interference.

V. Steps Taken to Minimize Significant Economic Impact on Small Entities, and Significant Alternatives Considered

13. The Commission has reduced the economic burden placed on small businesses where possible. In response to petitions/comments filed in this proceeding, the Commission has adopted rule modifications that will, through more effective radio operations and a reduction of regulatory burdens, foster the growth of small businesses providing wireless services. For instance, this Memorandum Opinion and Order eliminates the requirement for licensees to submit waiver requests (1) to operate mobile master stations in certain MAS bands and (2) to expand systems in the 928/959 MHz MAS bands as described in the Commission's rules. This action, in turn, will reduce administrative burdens for MAS licensees, as well as, the Commission, which will ultimately result in less economic burden on MAS licensees. Additionally, the Commission is providing specific parameters for mobile operations in this service which will assist small businesses by mitigating instances of potential interference, thus preserving valuable resources.

Report to Congress: The Commission will send a copy of the MAS Memorandum Opinion and Order, including this Supplemental FRFA, in a report to be sent to Congress pursuant to the Small Business Enforcement Fairness Act of 1996. In addition, the Commission will send a copy of the MAS Memorandum Opinion and Order, including the Supplemental FRFA, to the Chief Counsel for Advocacy of the Small Business Administration. A copy of the MAS Memorandum Opinion and Order and Supplemental FRFA (or summaries thereof) will also be published in the Federal Register.

14. Accordingly, It is Ordered that, pursuant to the authority contained in Sections 4(i) and 303 of the Communications Act of 1934, as amended, 47 U.S.C. 154(i) and 303, and § 1.429 of the Commission's rules, 47 CFR 1.429, the Petition for Reconsideration filed by CellNet Data Systems, Inc. on May 3, 2000, is Granted in Part consistent with the decisions set forth herein.

15. It is Further Ordered that, pursuant to the authority contained in sections 4(i) and 303 of the Communications Act of 1934, as amended, 47 U.S.C. 154(i) and 303, and § 1.429 of the Commission's rules, 47 CFR 1.429, the Petition for Clarification and Reconsideration filed by Radscan, Inc. on May 3, 2000 is Granted, consistent with the decisions set forth herein.

16. It is Further Ordered that, pursuant to the authority contained in sections 4(i) and 303 of the Communications Act of 1934, as amended, 47 U.S.C. 154(i) and 303, and § 1.429 of the Commission's rules, 47 CFR 1.429, the Petition for Reconsideration/Clarification filed by the Critical Infrastructure Communications Coalition on May 3, 2000, is Granted, consistent with the decisions set forth herein.

17. It is Further Ordered that, pursuant to the authority contained in sections 4(i) and 303 of the Communications Act of 1934, as amended, 47 U.S.C. 154(i) and 303, and § 1.429 of the Commission's rules, 47 CFR 1.429, the Petition for Reconsideration/Clarification filed by the United States Environmental Protection Agency on February 7, 2000, is Dismissed, as moot.

18. It is Further Ordered that, pursuant to the authority contained in section 4(i) of the Communications Act of 1934, as amended, 47 U.S.C. 154(i), the application freeze set forth in the Notice of Proposed Rule Making, 62 FR 11407 (March 12, 1997), in WT Docket No. 97-81, is Modified, as set forth herein.

19. It is Further Ordered that, part 101 of the Commission's rules is AMENDED, as set forth in Rule Changes, effective sixty days after its publication in the Federal Register.

20. It is Further Ordered that the Commission's Consumer Information Bureau, Reference Information Center, Shall Send a copy of this Memorandum Opinion and Order, including the Supplemental Final Regulatory Flexibility Analysis, to the Chief Counsel for Advocacy of the Small Business Administration.

21. It is Further Ordered that the above-captioned proceeding is Terminated.

List of Subjects in 47 CFR Part 101

Communications equipment, Radio, Reporting and recordkeeping requirements.

Federal Communications Commission.
Magalie Roman Salas,
Secretary.

Rule Changes

For reasons discussed in the preamble, the Federal Communications Commission amends 47 CFR part 101 as follows:

PART 101—FIXED MICROWAVE SERVICES

1. The authority citation for part 101 is amended to read as follows:

Authority: 47 U.S.C. 154, 303.

2. Section 101.105 is amended by revising (c)(5) to read as follows:

§ 101.105 Interference protection criteria.

* * * * *

(c) * * *

(5) Multiple address frequencies in the 956.25-956.45 MHz bands may be assigned for use by mobile master stations on a primary basis. Multiple address frequencies in the 941.0-941.5 MHz bands that are licensed on a site-by-site basis and the 952 MHz bands may be assigned for use by primary mobile master stations on a case-by-case basis if the 956.25-956.45 MHz frequencies are unavailable. Multiple address mobile (master and remote) operation is permitted on frequencies licensed by geographic area subject to the interference protection criteria set forth in § 101.1333, i.e., adjacent channel site-based licensees and co-channel operations in adjacent EAs. Mobile operation in the 959.85-960 MHz band is not permitted.

* * * * *

3. Section 101.107(a) is amended by revising the table and revising footnotes (5) and (7) to read as follows:

§ 101.107 Frequency tolerance.

(a) * * *

Frequency (MHz) | Frequency Tolerance (percent): All fixed and base stations | Frequency Tolerance (percent): Mobile stations over 3 watts | Frequency Tolerance (percent): Mobile stations 3 watts or less
928 to 929 (2)(5) | 0.0005 |  |
932 to 932.5 (2)(5) | 0.00015 |  |
* * * * * * *
* * * * * * *
(5) Used for remote stations. For remotes with 12.5 KHz bandwidth or less, the tolerance is ±0.00015%. Remote mobiles are only allowed in the portion of the 932-932.5 MHz band that is licensed by geographic area.
* * * * * * *
(7) For private operational fixed point-to-point microwave systems, with a channel greater than or equal to 50 KHz bandwidth, ±0.0005%; for multiple address master stations, regardless of bandwidth, ±0.00015%; for multiple address remote stations with 12.5 KHz bandwidths or less, ±0.00015%; for multiple address remote stations with channels greater than 12.5 KHz bandwidth, ±0.0005%.
* * * * * * *

4. Section 101.113(a) is amended by revising the first six rows as follows:

§ 101.113 Transmitter power limitations.

(a) * * *

Frequency Band (MHz) | Maximum allowable EIRP (1)(2): Fixed (dBW) | Maximum allowable EIRP (1)(2): Mobile (dBW)
928.0-929.0(2) | +17 |
932.0-932.5(2) | +17 |
932.5-935.0 | +40 |
941.0-941.5(2) | +30 | +14
941.5-944.0 | +40 |
952.0-960.0(2) | +40 | +14
* * * * * * *

* * * * *

5. Section 101.135 is amended by revising paragraph (e) to read as follows:

§ 101.135 Shared use of radio stations and the offering of private carrier service.

* * * * *

(e) Applicants licensed in the MAS frequencies after June 2, 2000, shall not provide service to others on a for-profit private carrier basis in the 928-928.85/952-952.85/956.25-956.45 MHz bands and the 932.25-932.5/941.25-941.5 MHz bands.

6. Section 101.147 is amended by revising note (28) in paragraph (a) and revising paragraph (b) introductory text to read as follows:

§ 101.147 Frequency assignments.

(a) * * *

(28) Licensees that obtain authorizations in the 928/952/956 MHz MAS bands subsequent to July 1, 1999 are limited to private internal services, as defined in § 101.1305. Incumbent operations in the 928/952/956 MHz MAS bands, as defined in § 101.1331(a), are subject to grandfather rights pursuant to § 101.1331. The 928.85-929.0 MHz and 959.85-960.0 MHz bands are licensed on a geographic area basis with no eligibility restrictions. The 928.0-928.85 MHz band paired with the 952.0-952.85 MHz band, in addition to unpaired frequencies in the 956.25-956.45 MHz band, are licensed on a site-by-site basis and used for terrestrial point-to-point and point-to-multipoint fixed and limited mobile operations. The 928.85-929.0 MHz band paired with the 959.85-960.0 MHz band is licensed by Economic Area and used for terrestrial point-to-point and point-to-multipoint fixed operations.

* * * * *

(b) Frequencies normally available for assignment in this service are set forth with applicable limitations in the following tables: 928-960 MHz Multiple address system (MAS) frequencies are available for the point-to-multipoint and point-to-point transmission of a licensee's products or services, excluding video entertainment material, to a licensee's customer or for its own internal communications. The paired frequencies listed in this section are used for two-way communications between a master station and remote stations. Ancillary one-way communications on paired frequencies are permitted on a case-by-case basis. Ancillary communications between interrelated master stations are permitted on a secondary basis. The normal channel bandwidth assigned will be 12.5 kHz. EA licensees, however, may combine contiguous channels without limit or justification. Site-based licensees may combine contiguous channels up to 50 kHz, and more than 50 kHz only upon a showing of adequate justification. Any bandwidth (12.5 kHz, 25 kHz or greater) authorized in accordance with this section may be subdivided into narrower bandwidths to create additional (or sub) frequencies without the need to specify each discrete frequency within the specific bandwidth. Equipment that is used to create additional frequencies by narrowing bandwidth (whether authorized for a 12.5 kHz, 25 kHz or greater bandwidth) will be required to meet, at a minimum, the ± 0.00015 percent tolerance requirement so that all subfrequencies will be within the emission mask. Systems licensed for frequencies in these MAS bands prior to August 1, 1975, may continue to operate as authorized until June 11, 1996, at which time they must comply with current MAS operations based on the 12.5 kHz channelization set forth in this paragraph. Systems licensed between August 1, 1975, and January 1, 1981, inclusive, are required to comply with the grandfathered 25 kHz standard bandwidth and channelization requirements set forth in this paragraph. Systems originally licensed after January 1, 1981, and on or before May 11, 1988, with bandwidths of 25 kHz and above, will be grandfathered indefinitely.

* * * * *

7. Section 101.1307 is revised to read as follows:

§ 101.1307 Permissible communications.

MAS users may engage in terrestrial point-to-point and point-to-multi-point fixed and limited mobile operations.

8. Section 101.1315 is revised to read as follows:

§ 101.1315 Service areas.

In the frequency bands not licensed on a site-by-site basis, the geographic service areas for MAS are Economic Areas (EAs) which are defined by the Department of Commerce's Bureau of Economic Analysis, as modified by the Commission. The EAs will consist of 176 areas, which includes Guam and the Northern Marianas Islands, Puerto Rico and the United States Virgin Islands, American Samoa, and the Gulf of Mexico.

9. Section 101.1331 is amended by revising paragraphs (a) and (b) to read as follows:

§ 101.1331 Treatment of incumbents.

(a) Any MAS station licensed by the Commission prior to July 1, 1999 in the 928.0-928.85 MHz/952.0-952.85 MHz/956.25-956.45 MHz and 928.85-929.0 MHz/959.85-960.0 MHz bands, as well as assignments or transfers of such stations approved by the Commission and consummated as of January 19, 2000, shall be considered incumbent.

(b) Incumbent operators in the 928.0-928.85 MHz/952.0-952.85 MHz/956.25-956.45 MHz bands are grandfathered as of January 19, 2000, and may continue to operate and expand their systems pursuant to the interference protection and co-channel spacing criteria contained in § 101.105.

(1) MAS operators are prohibited from acquiring additional frequencies in the 928.0-928.85 MHz/952.0-952.85 MHz/956.25-956.45 MHz bands and the 932.25625-932.49375 MHz/941.25625-941.49375 MHz bands for the purpose of expanding private carrier service and from changing the use of their frequencies in any manner that is inconsistent with this part. Refer to § 101.147 for designated uses.

(2) Incumbent operators in the 928.0-928.85 MHz/952.0-952.85 MHz/956.25-956.45 MHz bands will include incumbents as defined in § 101.1331(a), as well as, their transferees and/or assignees and the successors of the transferees and/or assignees and retain their grandfathered status, provided that the use of the MAS frequencies remains unchanged from that of the transferor and/or assignor of the license.

* * * * *

[FR Doc. 01-16650 Filed 7-2-01; 8:45 am]

BILLING CODE 6712-01-